DEPARTMENT OF THE INTERIOR

National Park Service

[NPS-WASO-NAGPRA-NPS0028296; PPWOCRADN0-PCU00RP14.R50000]

Notice of Inventory Completion: State University of New York at Oswego, Oswego, NY

AGENCY: National Park Service, Interior.

ACTION: Notice.

SUMMARY: The State University of New York at Oswego has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the State University of New York at Oswego. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the State University of New York at Oswego at the address in this notice by August 19, 2019.

ADDRESSES: Alanna Ossa, NAGPRA Coordinator, State University of New York at Oswego, 313 Mahar Hall, Department of Anthropology, Oswego, NY 13126, telephone (315) 312-4172, email alanna.ossa@oswego.edu.

SUPPLEMENTARY INFORMATION: Notice is here given in accordance with the Native American Graves Protection and Repatriation Act (NAGPRA), 25 U.S.C. 3003, of the completion of an inventory of human remains and associated funerary objects under the control of the State University of New York at Oswego, Oswego, NY. The human remains and associated funerary objects were removed from sites in Cayuga and Wayne Counties, NY.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A consultation request concerning the human remains and associated funerary objects was made by the SUNY Oswego professional staff with representatives of the Cayuga Nation.

History and Description of the Remains

In 1967-1968, human remains representing, at minimum, one individual were removed from the site of Colgan, located in the town of Ledyard in Cayuga County, NY. The human remains were acquired by Peter Pratt during SUNY Oswego's archeology dig at the Colgan site (also known as Myles A. Colgan farm), and were subsequently returned to the school. The human remains belong to a young adult (16-25 years) of indeterminate sex. No known individuals were identified. No associated funerary objects are present.

The Colgan site is identified as a late prehistoric village dating to approximately A.D. 1450-1550, based on the ceramic sequence and artifacts associated with its occupation (although the area is also close to a discovery location for Mastodon faunal remains).

In 1985, human remains representing, at minimum, two individuals were removed from the site of Hunter's Home (in the close vicinity of the Rogers Farm site), located in the Town of Savannah on a peninsular landform overlooking the Montezuma Marsh, in the very southeast corner of Wayne County, NY. The human remains were acquired by Peter Pratt during SUNY Oswego's archeology dig at the Hunter's Home site, and were subsequently returned to the school. The human remains belong to one adult (40-45 years) male, and one adult of indeterminate age (probably male). No known individuals were identified. The 960 associated funerary objects are 42 miscellaneous lithic pieces of unknown materials, eight decorated incised pottery body sherds, one chert flake, 14 assorted unidentified to species shell, 24 chert pieces, 46 unidentified lithic pieces of unknown materials, 99 plain and incised pottery body sherds, one piece of unidentified glass, 15 plain pottery body sherds, one chert projectile preform, six unidentified faunal bones, eight pieces of chert, 34 unidentified lithics, five unidentified lithic flakes, 26 unidentified lithics, one worked stone, two unworked pieces of shell, seven carbon samples, seven plain pottery sherds, one chert flake, one charcoal carbon sample, two fish bones, eight faunal bones, 34 unidentified faunal bones, one soil sample, eight plain pottery sherds, two botanical samples, two lithic flakes of unknown material, one unidentified lithic piece, one unidentified lithic piece, two lithic flakes of unknown material, 13 plain pottery body sherds, one unidentified faunal bone, one lithic flake of unknown material, one lithic flake of unknown material, two lithic flakes of unknown material, six flakes of unknown material, five flakes of unknown material, two flakes of unknown material, three flakes of unknown material, three flakes of unknown material, two flakes of unknown material, two chert flakes, five flakes of unknown material, four flakes of unknown material, one flake of unknown material, one flake of unknown material, three flakes of unknown material, one chert flake, 37 decorated and incised pottery body sherds, 32 unidentified lithics, 424 possible lithics/rocks, and one bag of dirt mixed with microartifacts.

The site of Hunter's Home is a large occupation village site that included camps, middens, and burials. The materials recovered in the vicinity of the site show a wide span of occupation from the Frost Island phase (1500-1000 B.C.), Woodland period (A.D. 1000-1600), and Contact period (A.D. 1600 to 1700).

At an unknown date, human remains consisting, at minimum, of one individual were removed from the Nolan site, located just north of Ledward, in Cayuga County, NY. These human remains were transferred to SUNY Oswego at an unknown time. The human remains belong to one adult of indeterminate sex. No known individuals were identified. No associated funerary objects are present.

The Nolan site is described as a late Prehistoric village occupation, dating to approximately A.D. 1450-1550, based on the ceramic sequence and associated artifacts. Its occupation may overlap with that of the nearby Colgan village site.

Determinations Made by the State University of New York at Oswego

Officials of the State University of New York at Oswego have determined that:

• Pursuant to 25 U.S.C. 3001(9), the human remains described in this notice represent the physical remains of four individuals of Native American ancestry.

• Pursuant to 25 U.S.C. 3001(3)(A), the 960 objects described in this notice are reasonably believed to have been placed with or near individual human remains at the time of death or later as part of the death rite or ceremony.

• Pursuant to 25 U.S.C. 3001(2), there is a relationship of shared group identity that can be reasonably traced between the Native American human remains and associated funerary objects and the Cayuga Nation.

Additional Requestors and Disposition

Lineal descendants or representatives of any Indian Tribe or Native Hawaiian organization not identified in this notice that wish to request transfer of control of these human remains and associated funerary objects should submit a written request with information in support of the request to Alanna Ossa, NAGPRA Coordinator, State University of New York at Oswego, 313 Mahar Hall, Department of Anthropology, Oswego, NY 13126, telephone (315) 312-4172, email alanna.ossa@oswego.edu, by August 19, 2019. After that date, if no additional requestors have come forward, transfer of control of the human remains and associated funerary objects to the Cayuga Nation may proceed.

The State University of New York at Oswego is responsible for notifying the Cayuga Nation that this notice has been published.

Dated: June 25, 2019.
Melanie O'Brien,
Manager, National NAGPRA Program.

[FR Doc. 2019-15437 Filed 7-18-19; 8:45 am]

BILLING CODE 4312-52-P